DEPARTMENT OF LABOR

Employment and Training Administration

[TA-W-60,077]

Oxford Collections, Inc., a Wholly Owned Subsidiary of Millwork Trading Co., Ltd D/B/A/ Li & Fung USA, Including On-Site Leased Workers of Ambrose Employer Group, LLC, New York, NY and Gaffney, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 24, 2006, applicable to workers of Oxford Collections, Inc., Women's Catalog Division, New York, New York and Gaffney, South Carolina. The notice was published in the Federal Register on November 16, 2006 (71 FR 66799).

At the request of the State agency, the Department reviewed the certification for workers of the subject firm. The workers are engaged in the production of ladies' apparel, such as women's sportswear separates, coordinated outerwear, dresses and swimwear.

New information shows that as of May 5, 2006, the correct name of the subject firm should read Oxford Collections, Inc. a wholly owned subsidiary of Millwork Trading Co., Ltd, d/b/a Li & Fung USA, including on-site leased workers of Ambrose Employer Group, LLC, New York, New York and Gaffney, South Carolina.

Information also shows that all workers separated from employment at the subject firm had their wages reported under a separate unemployment insurance (UI) tax account for Ambrose Employer Group, LLC.

Accordingly, the Department is amending the certification to properly reflect these matters.

The intent of the Department's certification is to include all workers of Oxford Collections, Inc., a wholly owned subsidiary of Millwork Trading Co., Ltd, d/b/a Li & Fung USA, New York, New York and Gaffney, South Carolina who were adversely affected by increased customer imports.

The amended notice applicable to TA-W-60,077 and TA-W-60,077A are hereby issued as follows:

All workers of Oxford Collections, Inc., a wholly owned subsidiary of Millwork Trading Co., Ltd, d/b/a Li & Fung USA, including on-site leased workers of Ambrose Employers Group, LLC, New York, New York (TA-W-60,077) and Oxford Collections, Inc., a wholly owned subsidiary of Millwork Trading Co., Ltd, d/b/a Li & Fung USA, including on-site leased workers of Ambrose Employers Group, LLC, Gaffney, South Carolina (TA-W-60,077A), who became totally or partially separated from employment on or after August 25, 2005, through October 24, 2008, are eligible to apply for adjustment assistance under Section 223 of the Trade Act of 1974, and are also eligible to apply for alternative trade adjustment assistance under Section 246 of the Trade Act of 1974.

Signed at Washington, DC this 11th day of January 2007.
Ellott S. Kushner,
Certifying Officer, Division of Trade Adjustment Assistance.

[FR Doc. E7-1068 Filed 1-24-07; 8:45 am]

BILLING CODE 4510-30-P